DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2013 Current Population Survey Annual Social & Economic Supplement.Content Test.

OMB Control Number: None

Form Number(s): The automated survey instrument has no form number.

Type of Request: New collection.

Burden Hours: 10,000.

Number of Respondents: 15,000.

Average Hours Per Response: 40 minutes.

Needs and Uses: The Current Population Survey (CPS) Annual Social and Economic Supplement (ASEC) is used to produce official estimates of income and poverty, and it serves as the most widely-cited source of estimates on health insurance and the uninsured. These statistics have far-ranging implications for policy and funding decisions. Alternative sets of questions on income and health insurance have been developed and are now slated for a large-scale field test to evaluate the questions and the estimates they generate.

With regard to income, the CPS ASEC was converted to computer assisted interviewing (CAI) in 1994. This conversion, however, essentially took the questions and skips patterns of the paper questionnaire, and put them on a computer screen. Automated data collection methods allow for complicated skips, respondent-specific question wording, and carry-over of data from one interview to the next. The computerized questionnaire also permits the inclusion of several built-in editing features, including automatic checks for internal consistency and unlikely responses, and verification of answers. With these built-in editing features, errors can be caught and corrected during the interview itself. It has been more than 30 years since the last major redesign of the income questions of this questionnaire (1980), and the need to modernize this survey to take advantage of CAI technologies has become more and more apparent.

Regarding health insurance, the CPS ASEC health insurance questions have measurement error due to both the reference period and timing of data collection. Qualitative research has shown that some respondents do not focus on the calendar year reference period, but rather report on their current insurance status. Quantitative studies have shown that those with more recent coverage are more likely to report accurately than those with coverage in the more past. A new set of integrated questions on both current and past calendar year status should produce more accurate estimates of past year coverage. This is because the current coverage status questions may serve as an anchor to elicit more accurate reports of past year coverage than the standard methodology.

In addition to making improvements to the core set of questions on health insurance, in 2014 the Affordable Care Act is set to go into effect. One of the main features of the ACA is the “Health Insurance Exchange.” These are joint federal-state partnerships designed to create a marketplace of private health insurance options for individuals and small businesses. While these Exchanges are still in development and states have broad flexibility in designing the programs, it is essential for the federal government to have a viable methodology in place when the Affordable Care Act goes into effect to measure Exchange participation, and to measure types of health coverage (in general) in the post-reform era.

Lastly, the current health insurance status questions lend themselves to questions about whether an employer offers the employee health insurance. Although this set of questions is new to the CPS ASEC, it has been in CPS production in the Contingent Worker Supplement (CWS). The CWS was fielded in February of 1995, 1997, 1999, 2001 and 2005.

The CPS ASEC field test will be conducted by telephone from one or more of the Census Bureau's telephone data collection centers in March 2013 with retired CPS sample.

The primary purpose of the field study is to evaluate the redesigned questions and assess any improvements over the CPS ASEC status quo design. Based on the results of the content test, if results are favorable for the new instrument, changes may be implemented in the production CPS ASEC in 2014.

Affected Public: Individuals or households.

Frequency: One time only.

Respondent's Obligation: Voluntary.

Legal Authority: Title 13 U.S.C., Section 182.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: November 27, 2012.
Gwellnar Banks,
Management Analyst, Office of the Chief Information Officer.

[FR Doc. 2012-29055 Filed 11-30-12; 8:45 am]

BILLING CODE 3510-07-P